CORPORATION FOR NATIONAL AND COMMUNITY SERVICE

Homeland Security Training and Technical Assistance NOFA Discussion Forum

AGENCY: Corporation for National and Community Service.

ACTION: Notice.

SUMMARY: The Corporation for National and Community Service will host a teleconference call to discuss, and answer question regarding, the recent Notice of Availability of Funds for a National Provider of Training and Technical Assistance to Corporation for National and Community Service Programs Using Service and Volunteers to Support Homeland Security, published in the Federal Register on September 5, 2002 (67 FR 56809). Please send discussion questions at least 24 hours prior to the call via email to charrison@cns.gov. We will consider all discussion questions. The toll-free number for the call is 888-889-1959. The pass code is HS ONE. Callers will also be required to give the conference leader's name Gina Fulbright-Powell.

DATES: Teleconference call will take place on Thursday, October 10, 2002, 2:30—4 p.m. Eastern.

ADDRESSES: Our address is The Corporation for National and Community Service, 1201 New York Avenue, NW., Washington, DC 20525.

FOR FURTHER INFORMATION CONTACT: For further information, contact Gina Fulbright-Powell (202-606-5000, ext. 182), e-mail gfulbrig@cns.gov or Wade Gatling (202-606-5000, ext. 451), e-mail wgatling@cns.gov.

Dated: October 3, 2002.
Gretchen Van der Veer,
Director, Office of Leadership Development and Training.

[FR Doc. 02-25606 Filed 10-7-02; 8:45 am]

BILLING CODE 6050-$$-P